DEPARTMENT OF COMMERCE

National Oceanic and Atmospheric Administration

[I.D. 022403B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Herring Oversight Committee and Advisory Panel in March 2003, to consider actions affecting New England fisheries in the exclusive economic zone. Recommendations from these groups will be brought to the full Council for formal consideration and action, if appropriate.

DATES: The meetings will be held on March 19, 2003, and March 25, 2003. See SUPPLEMENTARY INFORMATION for specific dates, times, locations and agendas.

ADDRESSES: The meetings will be held in Portland, ME, and Danvers, MA.

Council address: 50 Water Street, Mill 2, Newburyport, MA, 01950.

FOR FURTHER INFORMATION CONTACT: Paul J. Howard, Executive Director, New England Fishery Management Council, 978-465-0492.

SUPPLEMENTARY INFORMATION:

Meeting Dates, Times, Locations and Agendas

On Wednesday, March 19, 2003, the Herring Advisory Panel Meeting will meet at 10 a.m. at the Holiday Inn by the Bay, 88 Spring Street, Portland, ME 04101; telephone: 207-775-2311. The Panel will review results of the Transboundary Resource Assessment Committee (TRAC) assessment of the herring resource. They will identify issues for inclusion in the scoping document for Amendment 2 to the Herring Fishery Management Plan (FMP). (Amendment 1 will address Essential Fish Habitat (EFH) issues separately.) They will also review a timeline for preparation of annual specifications and Amendment 2 development.

On Tuesday, March 25, 2003, the Herring Oversight Committee Meeting will meet at 9:30 a.m. at the Sheraton Ferncroft, 50 Ferncroft Road, Danvers, MA, 01923; telephone: 978-777-2500. The oversight committee will review results of the TRAC assessment of the herring resource. They will finalize a list of issues to be included in the scoping document for Amendment 2 to the Herring FMP (Amendment 1 will address EFH issues separately). They will also discuss the timeline and location of the Amendment 2 scoping meetings. They will review timeline for preparation of annual specifications and Amendment 2 development.

Although non-emergency issues not contained in this notice may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final actions to address such emergencies.

Special Accommodations

These meetings are physically accessible to people with disabilities. Requests for special accommodations, sign language interpretation, or other auxiliary aids should be directed to Paul J. Howard (see ADDRESSES) at least 5 days prior to the meeting dates.

Dated: February 24, 2003.
Theophilus R. Brainerd,
Acting Director, Office of Sustainable Fisheries, National Marine Fisheries Service.

[FR Doc. 03-4684 Filed 2-27-03; 8:45 am]

BILLING CODE 3510-22-S